DEPARTMENT OF THE INTERIOR

Bureau of Land Management

[CO-933-00-1320-EL; COC 61209, CO-933-00-1320-EL; COC 61357]

Amended Notice of Coal Lease Offerings By Sealed Bid

AGENCY: Bureau of Land Management, Interior.

ACTION: Corrected sale date.

SUMMARY: Bureau of Land Management, Colorado State Office, Lakewood, Colorado, hereby gives notice to correct the sale date for two notices of coal lease offering by sealed bid published in 65 FR 20827-20828 on April 18, 2000.

On page 20827, second column, middle of page, the paragraph reading “DATES: The lease sale will be held at 10 a.m., Tuesday, May 23, 2000. Sealed bids must be submitted no later than 9 a.m., Tuesday, May 23, 2000.”, change both dates to “Wednesday, May 31, 2000.”

On page 20828, first column, bottom third of page, the paragraph reading “Dates: The lease sale will be held at 1 p.m. Tuesday, May 23, 2000. Sealed bids must be submitted no later than 12 noon, Tuesday, May 23, 2000.”, change both dates to “Wednesday, May 31, 2000.”

FOR FURTHER INFORMATION CONTACT: Karen Purvis at (303) 239-3795.

Dated: April 20, 2000.
Matthew R. McColm,
Mining Engineer, Branch of Solid Minerals, Resource Services.

[FR Doc. 00-10352 Filed 4-25-00; 8:45 am]

BILLING CODE 4310-JB-U